DEPARTMENT OF TRANSPORTATION

Federal Aviation Administration

14 CFR Part 39

[Docket No. FAA-2008-0750; Directorate Identifier 2008-NE-21-AD]

RIN 2120-AA64

Airworthiness Directives; Dowty Propellers R175/4-30; R184/4-30-4; R193/4-30-4; R.209/4-40-4.5; R212/4-30-4; R.245/4-40-4.5; R251/4-30-4; R257/4-30-4; and R.259/4-40-4.5 Model Propellers

AGENCY: Federal Aviation Administration (FAA), Department of Transportation (DOT).

ACTION: Notice of proposed rulemaking (NPRM).

SUMMARY: The FAA proposes to supersede an existing airworthiness directive (AD) for all Dowty Rotol propellers. That AD currently requires, for all Dowty Rotol propellers, visual inspections for seizure and for cadmium plating of the blade pitch change operating links and eyebolt fork assemblies. That AD also requires replacement or heat-treatment of the blade pitch change operating links and eyebolt fork assemblies, if necessary. This proposed AD would require the same actions, but only for certain model Dowty Propellers. This proposed AD results from the FAA determining that AD 70-16-02 does not apply to all propellers, since current Dowty Rotol propellers are differently designed. We are proposing this AD supersedure to specify the affected propeller models, and to prevent seizure or embrittlement and cracking of the blade pitch change operating links and eyebolt fork assemblies, which could result in reduced controllability of the airplane.

DATES: We must receive any comments on this proposed AD by October 28, 2008.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Dowty Propellers, Anson Business Park, Cheltenham Road East, Gloucester GL 29QN, UK; telephone: 44 (0) 1452 716000; fax: 44 (0) 1452 716001, for the service information identified in this proposed AD.

FOR FURTHER INFORMATION CONTACT: Terry Fahr, Aerospace Engineer, Boston Aircraft Certification Office, FAA, Engine and Propeller Directorate, 12 New England Executive Park, Burlington, MA 01803; e-mail: terry.fahr@faa.gov; telephone (781) 238-7155; fax (781) 238-7170.

SUPPLEMENTARY INFORMATION:

Comments Invited

We invite you to send any written relevant data, views, or arguments regarding this proposal. Send your comments to an address listed under ADDRESSES. Include “Docket No. FAA-2008-0750; Directorate Identifier 2008-NE-21-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 70-16-02, Amendment 39-1503 (37 FR 16535, August 16, 1972). That AD requires, for all Dowty Rotol propellers, visual inspections for seizure and for cadmium plating of the blade pitch change operating links and eyebolt fork assemblies. That AD also requires replacement or heat-treatment of the blade pitch change operating links and eyebolt fork assemblies, if necessary. That AD was the result of reports of incorrect and unauthorized cadmium plating of propeller pitch change operating links, link pins, and eyebolt fork assemblies on their case-hardened surfaces. Those conditions, if not corrected, could result in seizure or embrittlement and cracking of blade pitch change operating links and eyebolt fork assemblies, which could result in reduced controllability of the airplane.

Actions Since AD 70-16-02 Was Issued

Since AD 70-16-02 was issued, we determined that at the time of issuance, the applicability to all Dowty Rotol propellers was accurate. However, other Dowty propeller models which are differently designed have been type certificated since that AD was issued, and are not affected by that AD. This proposed AD would clarify the propeller model applicability by only affecting Dowty Propellers R175/4-30; R184/4-30-4; R193/4-30-4; R.209/4-40-4.5; R212/4-30-4; R.245/4-40-4.5; R251/4-30-4; R257/4-30-4; and R.259/4-40-4.5 model propellers. AD 70-16-02 has a compliance time of within the next 100 hours time-in-service. This proposed AD would require a compliance time of before further flight, as the affected propellers should have already complied with AD 70-16-02.

Relevant Service Information

We have reviewed and approved the technical contents of Dowty Rotol Service Bulletin (SB) No. 61-754, dated June 12, 1970. That SB describes procedures for heat-treating the blade pitch change operating links and eyebolt fork assemblies.

FAA's Determination and Requirements of the Proposed AD

We have evaluated all pertinent information and identified an unsafe condition that is likely to exist or develop on other products of this same type design. For that reason, we are proposing this AD, which would require visual inspections before further flight of the blade pitch change operating links and eyebolt fork assemblies and replacement or heat-treatment of them, if necessary, for Dowty Propellers R175/4-30; R184/4-30-4; R193/4-30-4; R.209/4-40-4.5; R212/4-30-4; R.245/4-40-4.5; R251/4-30-4; R257/4-30-4; and R.259/4-40-4.5 model propellers.

Costs of Compliance

We anticipate that this proposed AD would affect no propellers installed on airplanes of U.S. registry, as the affected propellers should already be in compliance with AD 70-16-02 since it became effective, on August 21, 1972. Based on this information, we estimate the total cost of the proposed AD to U.S. operators to be $0.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-1503 (37 FR 16535, August 16, 1972) and by adding a new airworthiness directive to read as follows:

Dowty Propellers (Formerly Dowty Aerospace; Dowty Rotol Limited; and Dowty Rotol): Docket No. FAA-2008-0750; Directorate Identifier 2008-NE-21-AD.

Comments Due Date

(a) The Federal Aviation Administration (FAA) must receive comments on this airworthiness directive (AD) action by October 28, 2008.

Affected ADs

(b) This AD supersedes AD 70-16-02, Amendment 39-1503.

Applicability

(c) This AD applies to Dowty Propellers R175/4-30; R184/4-30-4; R193/4-30-4; R.209/4-40-4.5; R212/4-30-4; R.245/4-40-4.5; R251/4-30-4; R257/4-30-4; and R.259/4-40-4.5 model propellers. These propellers are installed on, but not limited to, Fairchild F-27, Fairchild-Hiller FH-227, Grumman G-159, Nihon YS-11, Convair 240, 340, 440, 600, and BAe HS 748 Series 2 airplanes.

Unsafe Condition

(d) This AD results from the FAA determining that AD 70-16-02 does not apply to all propellers, since current Dowty Rotol propellers are differently designed. We are issuing this AD supersedure to specify the affected propeller models, and to prevent seizure or embrittlement and cracking of the blade pitch change operating links and eyebolt fork assemblies, which could result in reduced controllability of the airplane.

Compliance

(e) You are responsible for having the actions required by this AD performed before further flight after the effective date of this AD, unless the actions have already been done.

(f) Inspect the blade pitch change operating link and eyebolt fork assembly for:

(1) Seizure (the link and eyebolt are seized if the torque required to move the link is 300 inch pounds or more); and

(2) Cadmium plating on the mating surfaces between the operating link and eyebolt fork and the holes through the eyebolt fork and the operating link.

(g) If the link and eyebolt fork are not seized and have not been cadmium plated, they may remain in service.

(h) If the link and eyebolt fork are not seized but cadmium plating is found in the prohibited areas, remove the plating by means of wet or dry silicon carbide paper, fine or medium grade, and conduct a magnetic crack test. If no cracks are found, the assembly may remain in service until the next propeller overhaul for air carrier airplanes and airplanes under a continuous maintenance program or for 3,300 hours time-in-service after the effective date of this AD for all other airplanes. At the next propeller overhaul for air carrier airplanes and airplanes under a continuous maintenance program, or within 3,300 hours time-in-service after the effective date of this AD for all other airplanes, heat treat the links and eyebolt forks found to have been cadmium plated, to remove embrittlement. Use Dowty Rotol Service Bulletin No. 61-754, dated June 12, 1970, to perform the heat treatment.

(i) If the link and eyebolt fork are seized, remove the link and eyebolt fork from service and replace them with an assembly having a part number approved for that model propeller that has not been cadmium plated in the prohibited areas.

(j) If the link or eyebolt fork are found to be cracked during the inspection in paragraph (h) of this AD, remove the cracked part from service and replace it with a part having a part number approved for that model propeller that has not been cadmium plated.

(k) The inspection required by paragraph (f) of this AD need not be performed and the propeller may remain in service if:

(1) The operator can show that no cadmium plating exists in the prohibited areas of that propeller; or

(2) It is a new propeller that has never been overhauled.

Alternative Methods of Compliance

(l) The Manager, Boston Aircraft Certification Office, FAA, has the authority to approve alternative methods of compliance for this AD if requested using the procedures found in 14 CFR 39.19.

Related Information

(m) Contact Terry Fahr, Aerospace Engineer, Boston Aircraft Certification Office, FAA, Engine and Propeller Directorate, 12 New England Executive Park, Burlington, MA 01803; e-mail: terry.fahr@faa.gov; telephone (781) 238-7155; fax (781) 238-7170, for more information about this AD.

Issued in Burlington, Massachusetts, on August 22, 2008.
Carlos Pestana,
Acting Assistant Manager, Engine and Propeller Directorate, Aircraft Certification Service.

[FR Doc. E8-20081 Filed 8-28-08; 8:45 am]

BILLING CODE 4910-13-P